DEPARTMENT OF TRANSPORTATION

Federal Aviation Administration

[Docket No. FAA-2022-1187]

Agency Information Collection Activities: Request for Comments, Clearance of Renewed Approval of Information Collection: General Operating and Flight Rules FAR 91 and FAR 107

AGENCY: Federal Aviation Administration (FAA), DOT.

ACTION: Notice and request for comments.

SUMMARY: In accordance with the Paperwork Reduction Act of 1995, the FAA invites public comments about its intention to request the Office of Management and Budget (OMB) approval to renew an information collection. The Federal Register Notice with a 60-day comment period soliciting comments on the following collection of information was published on February 14, 2022. The collection involves the submission of materials to obtain a letter of deviation authority (LODA) to permit flight instruction for compensation or hire aboard aircraft holding experimental certificates. The information to be collected will be used to determine whether such flight instruction can be conducted safely.

DATES: Written comments should be submitted by September 30, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Jabari Raphael by email, Jabari.Raphael@faa.gov, or by phone, (202) 267-1088.

SUPPLEMENTARY INFORMATION: Public Comments Invited: You are asked to comment on any aspect of this information collection, including (a) Whether the proposed collection of information is necessary for the FAA's performance; (b) the accuracy of the estimated burden; (c) ways for the FAA to enhance the quality, utility and clarity of the information collection; and (d) ways that the burden could be minimized without reducing the quality of the collected information.

OMB Control Number: 2120-0005.

Title: General Operating and Flight Rules FAR 91 and FAR 107.

Form Numbers: N/A.

Type of Review: Renewal.

Background: The Federal Register Notice with a 60-day comment period soliciting comments on the following collection of information was published on February 14, 2022. 87 FR 8335 (Feb. 14, 2022). In 2004, the FAA published a final rule requiring operators of experimental aircraft to apply for a LODA to conduct operations for compensation or hire under 14 CFR 91.319. See 69 FR 44771 (July 27, 2004). When publishing the 2004 final rule, the FAA inadvertently omitted its submission to the OMB detailing the information collection burden under the Paperwork Reduction Act (PRA). See 69 FR at 44858 (explaining estimated PRA burden and OMB compliance requirements). As a result of this omission, the existing OMB collection does not account for the PRA burden of LODAs issued to operators under § 91.319.

In the 2004 final rule, the FAA also implied that, beginning January 31, 2010, all experimental light sport aircraft (ELSA) operators would similarly need to apply for a LODA to conduct operations for compensation or hire. 69 FR at 44853 (explaining LODA requirements for ELSA operators). This additional LODA implication—published in the 2004 final rule with an effective date in 2010—was also inadvertently not accounted for in the OMB's information collection. As a result of these inadvertent omissions to OMB, the FAA submits this Notice to ensure compliance with the PRA. Importantly, the FAA has already requested and received public comment on the anticipated PRA burden for obtaining a LODA for experimental aircraft operators. See 69 FR at 44858 (adjudicating public comments regarding PRA burden). Thus, the FAA notes that it considered comments from interested members of the public when finalizing the LODA requirements under § 91.319. In other words, the FAA submits this Notice to ensure technical compliance with the OMB's PRA requirements, as a matter of diligence in meeting these requirements and ensuring accuracy in recordkeeping procedures.

Respondents: There are approximately 177 active LODA holders for operations under 14 CFR 91.319, and the FAA anticipates approximately 20 new submissions per year.

Frequency: As needed.

Estimated Average Burden per Response: 19 hours.

Estimated Total Annual Burden: 380 hours per year.

Issued in Washington, DC, on August 26, 2022.
Dwayne C. Morris,
Project Manager, Flight Standards Service, General Aviation and Commercial Division.

[FR Doc. 2022-18805 Filed 8-30-22; 8:45 am]

BILLING CODE 4910-13-P